NATIONAL SCIENCE FOUNDATION

Sunshine Act Meetings

The National Science Board's (NSB) Committee on External Engagement hereby gives notice of a change in a previously scheduled meeting for the transaction of National Science Board business pursuant to the National Science Foundation Act and the Government in the Sunshine Act.

FEDERAL REGISTER CITATION OF PREVIOUS ANNOUNCEMENT: 87 FR 52419, August 25, 2022.

PREVIOUSLY ANNOUNCED TIME AND DATE OF THE MEETING: Monday, October 24, 2022, from 5:00-5:30 p.m. EDT.

CHANGES IN THE MEETING: The meeting will occur at the same date and time. The matter to be considered is changed to consideration of 2023 NSB Honorary Award nominations. The meeting will be closed to the public.

CONTACT PERSON FOR MORE INFORMATION: Point of contact for this meeting is: Chris Blair, cblair@nsf.gov, 703/292-7000.

Chris Blair,
Executive Assistant to the National Science Board Office.

[FR Doc. 2022-22993 Filed 10-19-22; 11:15 am]

BILLING CODE 7555-01-P